DEPARTMENT OF THE INTERIOR

Bureau of Land Management

[BLM_OR_FRN_MO4500176106]

Public Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) will meet as follows.

DATES: The SMAC will hold a meeting Thursday, January 25, 2024, from 10:00 a.m. to 5:00 p.m. Pacific Time (PT), and Friday, January 26, from 8:30 a.m. to 12:15 p.m. PT.

ADDRESSES: The meeting will be held at the Hilton Garden Inn at 425 Southwest Bluff Drive in Bend, Oregon. Virtual attendance through the Zoom for Government platform will be available. The final meeting agenda and Zoom link will be published on the SMAC web page at least 10 days in advance at https://on.doi.gov/2PnZRcl.

FOR FURTHER INFORMATION CONTACT: Tara Thissell, Public Affairs Specialist, BLM Burns District Office, 28910 Highway 20 West, Hines, Oregon 97738; telephone: (541) 573-4519; email: tthissell@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The SMAC was established on August 14, 2001, pursuant to the Steens Mountain Cooperative Management and Protection Act of 2000 (Pub. L. 106-399). The SMAC provides recommendations to the BLM regarding new and unique approaches to management of the public lands within the bounds of the Steens Mountain Cooperative Management and Protection Area, recommends cooperative programs and incentives for landscape management that meet human needs, and advises the BLM on potential maintenance and improvement of the ecological and economic integrity of the area.

Agenda items for January 25 include reports from the Designated Federal Official and Andrews/Steens Mountain Field Office Manager; presentations about the Page Springs Weir, the ecology of Steens Mountain, and how to make a substantive comment on National Environmental Policy Act documents; and discussions about grazing and the Bridge Creek Area Allotment Management Plan Environmental Impact Statement.

The January 26 session includes a panel conversation about the development of the Steens Mountain Cooperative Management and Protection Act and how things have evolved over the past two decades; discussion about the SMAC's charter and purpose; an opportunity for council members to share information from their constituents or present research; and continued discussion about strategic planning for the council. Any other matters that may reasonably come before the SMAC may also be included at any time throughout the 2-day session.

This meeting is open to the public. Public comment periods are scheduled for 3:45 p.m. on Thursday, January 25, and 11:30 a.m. on Friday, January 26. Depending on the number of people wishing to comment and the time available, the amount of time for oral comments may be limited. Written public comments may be sent to the BLM Burns District Office listed in the FOR FURTHER INFORMATION CONTACT section of this notice. All comments received at least one week prior to the meeting will be provided to the SMAC prior to the meeting. The meeting may end early if all business items are completed ahead of schedule or may be extended if discussions warrant more time. All meetings, including virtual sessions, are open to the public in their entirety.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Public Disclosure of Comments: Before including your address, phone number, email address, or other personal identifying information in your comments, please be aware that your entire comment—including your personal identifying information—may be made publicly available at any time. While you can ask us in your comment to withhold your personal identifying information from public review, we cannot guarantee that we will be able to do so.

(Authority: 5 U.S.C. ch. 10)

Jeffrey Rose,
District Manager.

[FR Doc. 2023-26184 Filed 11-27-23; 8:45 am]

BILLING CODE 4331-24-P